DEPARTMENT OF HEALTH AND HUMAN SERVICES

Centers for Medicare and Medicaid Services

[Document Identifier: CMS-10281]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. Emergency approval is requested under 5 CFR 1320.13(a)(2)(iii), as we believe that the use of normal clearance procedures is reasonably likely to cause a statutory deadline to be missed.

1. Type of Information Collection Request: New collection; Title of Information Collection: Supplemental Appropriations Act of 2008 Mandated Report to Congress; Form Number: CMS-10281 (OMB#: 0938-NEW); Use: The information collected will consist of a series of interviews with State Medicaid program officials as well as request for operational data. The information to be collected is required to comply with a congressionally mandated study that is due to the Committee on Finance on Energy and Commerce of the House of Representatives and the Committee on Finance of the Senate no later than September 1, 2009 according to Section 7001(c)(2) of the Supplemental Appropriations Act, 2008 (SAA, Pub. L. 110-252). Frequency: Reporting—One-time; Affected Public: State, Local, or Tribal Governments; Number of Respondents: 51; Total Annual Responses: 51; Total Annual Hours: 3,060. (For policy questions regarding this collection contact Effie George at 410-786-8639. For all other issues call 410-786-1326.)

CMS is requesting OMB review and approval of this collection by May 12, 2009, with a 180-day approval period. Written comments and recommendations will be considered from the public if received by the individuals designated below by May 11, 2009.

To obtain copies of the supporting statement and any related forms for the proposed paperwork collections referenced above, access CMS's Web site address at http://www.cms.hhs.gov/PaperworkReductionActof1995 or e-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by May 11, 2009:

1. Electronically. You may submit your comments electronically to http://www.regulations.gov. Follow the instructions for “Comment or Submission” or “More Search Options” to find the information collection document(s) accepting comments.

2. By Regular Mail. You may mail written comments to the following address: CMS, Office of Strategic Operations and Regulatory Affairs, Division of Regulations Development, Attention: Document Identifier/OMB Control Number CMS-10281, Room C4-26-05, 7500 Security Boulevard, Baltimore, Maryland 21244-1850 and, OMB, Office of Information and Regulatory Affairs, Attention: CMS Desk Officer, New Executive Office Building, Room 10235, Washington, DC 20503. Fax Number: (202) 395-6974.

Dated: April 3, 2009.
Michelle Shortt,
Director, Regulations Development Group, Office of Strategic Operations and Regulatory Affairs.

[FR Doc. E9-8249 Filed 4-9-09; 8:45 am]

BILLING CODE 4120-01-P